CONSUMER FINANCIAL PROTECTION BUREAU

[Docket No. CFPB-2024-0027]

Agency Information Collection Activities; Comment Request

AGENCY: Consumer Financial Protection Bureau.

ACTION: Notice and request for comment.

SUMMARY: In accordance with the Paperwork Reduction Act of 1995 (PRA), the Consumer Financial Protection Bureau (CFPB) requests the Office of Management and Budget's (OMB's) revision of the existing information collection titled “Regulation F: Fair Debt Collection Practices Act, State Application for Exemption” approved under OMB Control Number 3170-0056.

DATES: Written comments are encouraged and must be received on or before August 9, 2024 to be assured of consideration.

ADDRESSES: Written comments and recommendations for the proposed information collection should be sent within 30 days of publication of this notice to www.reginfo.gov/public/do/PRAMain. Find this particular information collection by selecting “Currently under 30-day Review—Open for Public Comments” or by using the search function.

In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Regulation F: Fair Debt Collection Practices Act, State Application for Exemption.

OMB Control Number: 3170-0056.

Type of Review: Revision of a currently approved collection.

Affected Public: State governments.

Estimated Number of Respondents: 8,730.

Estimated Total Annual Burden Hours: 858,345.

Abstract: Regulation F implements the Fair Debt Collection Practices Act (FDCPA) ¹ and prescribes Federal rules governing the activities of debt collectors (as that term is defined in the FDCPA). Regulation F addresses communications in connection with debt collection and prohibitions on harassment or abuse, false or misleading representations, and unfair practices in debt collection. Regulation F includes information collections related to information that debt collectors must provide to consumers at various points during the debt collection process (such as at the outset of collections), before reporting a debt to a consumer reporting agency, and in response to certain consumer requests or actions. Regulation F also includes information collections related to recordkeeping and State applications to the CFPB for an exemption of a class of debt collection practices within the applying State from the provisions of the FDCPA and the corresponding provisions of Regulation F.

¹ 15 U.S.C. 1692.

Request for Comments: The CFPB published a 60-day Federal Register notice on March 14, 2024 (89 FR 18606) under Docket Number: CFPB-2024-0011. The CFPB is publishing this notice and soliciting comments on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2024-15129 Filed 7-9-24; 8:45 am]

BILLING CODE 4810-AM-P